DEPARTMENT OF HEALTH AND HUMAN SERVICES

Cooperative Agreement with Central State University for the Family and Community Violence Prevention Program

AGENCY: Department of Health and Human Services, Office of the Secretary, Office of Public Health and Science, Office of Minority Health.

ACTION: Notice.

Authority: This program is authorized under section 1707(e)(1) of the Public Health Service Act (PHS), as amended.

SUMMARY: The purpose of the Family and Community Violence Prevention Program (FCVP) is to address the disproportionate incidence of violence and abusive behavior in low income, at-risk, minority communities by targeting these communities through the mobilization of community partners. The intent of this program is to demonstrate the merit of programs that involve institutions of higher education in partnership with primary and secondary schools, community organizations and community citizens to improve the community's quality of life. In order to have the anticipated impact, interventions conducted through partnerships must be directed to the individual, the family and the community as a whole, and must be designed to impact the academic and personal development of those who are at risk.

ADDRESSES: Send the original and two copies of the complete grant application to: Ms. Karen Campbell, Grants Management Officer, Division of Management Operations, Office of Minority Health, Rockwall II Building, Suite 1000, 5515 Security Lane, Rockville, MD 20852.

DATES: The grant application must be received by the Office of Minority Health (OMH) Grants Management Officer by 5:00 p.m. EST on May 6, 2002.

FOR FURTHER INFORMATION CONTACT: Ms. Karen Campbell may be contacted for technical assistance on budget and business aspects of the application. She can be reached at the address above or by calling (301) 443-8441. For further explanations and answers to questions on programmatic aspects, contact: Ms. Cynthia H. Amis, Director, Division of Program Operations, Office of Minority Health, Rockwall II Building, Suite 1000, 5515 Security Lane, Rockville, MD 20852; or call: Cynthia Amis at (301) 594-0769.

SUPPLEMENTARY INFORMATION: OMB Catalog of Federal Domestic Assistance: The Catalog of Federal Domestic Assistance Number for this program is 93.910.

Availability of Funds: Approximately $7,150,000 (indirect and direct costs) is expected to be available to fund one award to Central State University (CSU) of Wilberforce, Ohio in FY 2002 for a 12-month budget period. Assistance will be provided only to CSU. No other applications are solicited. Support may be requested for a total project period not to exceed 4 years.

CSU is uniquely qualified to administer this cooperative agreement because it has:

• An established infrastructure to manage a multi-faceted demonstration program, coordinated among widely dispersed and diverse institutions of higher education, which addresses family and community violence.

• In place a management staff with the background and experience to guide, develop and evaluate the FCVP Program; and

• Experience in carrying out a program designed to address the risk factors for youth violence in at-risk, minority communities.

As the single source recipient, CSU:

• Shall commence the FCVP program on August 1, 2002.

• Shall, in FY 2002, award $4,950,000 in continuation funds to the 23 undergraduate institutions currently funded under the FCVP program to support established Family Life Centers (FLCs).

• Shall, in FY 2002, award $900,000 in new awards to three additional undergraduate institutions to support the establishment of model FLCs.

• Will be able to apply for noncompeting continuation awards for an additional three years. After Year 1, funding will be based on:

1. The amount of money available, up to $7.4 million per year; and

2. Success or progress in meeting project objectives.

For the noncompeting continuation awards, CSU must submit continuation applications, written reports, and continue to meet the established program guidelines.

Use of Cooperative Agreement Funds: Budgets of up to $7.15 million total costs in Year 1 and up to $7.4 million for each of the three subsequent years (direct and indirect) may be requested to cover costs of:

• Personnel

• Consultants

• Supplies

• Equipment

• Grant Related Travel

Funds may not be used for:

• Medical Treatment

• Construction

• Building alterations or renovations

Note: All budget requests must be fully justified in terms of the proposed purpose, objectives and activities and include an explanation of how costs were computed for each line item.

Background

Despite an overall decline in crime since 1994, injuries and deaths due to violence and abusive behavior continue to be a widespread problem in the United States, costing the Nation over $200 billion annually. According to the Department of Justice, Bureau of Justice Statistics (BJS), minorities are disproportionately represented among both victims and perpetrators of violent crime. While violent crime rates have declined significantly for almost every demographic group examined, those most vulnerable to violent victimization in the past—males, teens and Blacks for example—continued to be the most vulnerable in 2000. The rates of violent crime victimization for Blacks, 35.3 per 1000, and Hispanics, 28.4 per 1000, are higher than the rate for whites, 27.1. The BJS report American Indians and Crime (1999) includes data from the National Victimization Survey which show that in 1996, American Indians accounted for 1.4 percent of all violent victimizations while representing only .9 percent of the U.S. population.

According to the Healthy People 2000 Final Review (National Center for Health Statistics, HHS 2001), the United States has the highest rates of lethal childhood violence when compared to other industrialized countries. In 1998, 5,506 young people aged 15 to 24 years were victims of homicide, an average of 15 homicides per day. Among youth aged 10 to 14 years, homicide is the third leading cause of death and among 15 to 19 year olds, it is the second leading cause (Healthy People 2010 Objectives for Improving Health, 2nd ed., HHS 2000). About one in every eight people murdered in 2000 was less than 18 years old.

According to Youth Violence: A Report of the Surgeon General (HHS 2001), youth violence begins either before puberty, before age 13, or later in adolescence. Those youth who become involved in violence before age 13 usually commit more crimes, exhibiting a pattern of escalating violence through childhood and sometimes through adulthood. The report further states that surveys have found that 30 to 40 percent of male youths and 15 to 30 percent of female youths have committed a serious violent offense by age 17.

Minority youth are victims and perpetrators of violent crime at a disproportionate rate. Homicide is the leading cause of death for African Americans 15 to 24 years of age. Young Black males and females are 11 and 4 times, respectively, more likely to be killed than white youth. Data published by the Office of Juvenile Justice and Delinquency Prevention (OJJDP) show that 52 percent of juvenile murder victims in 1997 were minorities. Also in 1997, minorities accounted for 24 percent of the total juvenile population; however, minority males and females represented 63 and 50 percent, respectively, of the juveniles in residential placement. Further, minority juveniles represented approximately 69 percent of all juveniles in residential placement for violent offenses. Black juveniles had the highest rate of placement for violent offenses at 259 per 1,000. Additionally, the rates for violent offenses among Hispanics (138 per 1,000), American Indians (143 per 1,000) and Asians (59 per 1,000) all exceeded the rate for white juveniles (45 per 1,000) (Sickmund & Wan, 2001; analysis of OJJDP's Census of Juveniles in Residential Placement 1997 and 1999).

Risk factors for violence and aggression are additive and follow a developmental sequence. Risk factors are also interdependent and are affected by a range of life experiences and influences involving family, peers, community, and culture, as well as an individual's personal physical and mental health status (Youth and Violence, Medicine, Nursing and Public Health: Connecting the Dots to Prevent Violence, Commission for the Prevention of Youth Violence, 2000). As stated in the Surgeon General's Report, “risk factors and protective factors exist in every area of life-individual, family, school, peer group, and community.” The Report further states that risk and protective factors have varying influences depending on when they occur during a child's development. For example, substance abuse, involvement in serious (not necessarily violent) crime, being male, physical aggression, low family socioeconomic status or poverty, and antisocial parents are cited as the strongest risk factors for violent behavior during childhood. During adolescence, however, peer influences supplant those of the family and weak ties to conventional peers, ties to antisocial or delinquent peers, gang membership and involvement in other criminal acts become the strongest risk factors. Violence prevention programs that have been demonstrated to be highly effective combine components that address both individual risks and environmental conditions. Eliminating or reducing risk factors holds promise for reducing violence.

Since 1985, HHS has recognized violence as a leading public health problem in the United States and has supported initiatives to prevent violence. The Family and Community Violence Prevention Program (FCVP) is such an initiative supported through the Office of Minority Health (OMH).

Through this announcement OMH will continue its partnership with CSU and the FCVP initiative begun in 1994 as A Series of HBCU Models to Prevent Minority Male Violence. Sixteen Historically Black Colleges and Universities (HBCUs), collectively known as the Minority Male (Min-Male) Consortium were supported to conduct violence prevention programs targeted to minority males. Three more HBCUs joined the Consortium in 1995. In 1997, the program was renamed the Family Community and Violence Prevention Program (FCVP) and its focus expanded to include females and families. Seven institutions, including Hispanic Serving Institutions and Tribal Colleges/Universities, were added to the Program in 1999 in an effort to address the problem of youth violence among all of the racial/ethnic minority populations served by OMH. Currently, 23 minority institutions in 17 states, the District of Columbia and the U.S. Virgin Islands are supported through the FCVP.

In FY 2002 the FCVP will continue to support community-based interventions designed to address the risk factors for violence and enhance the protective factors for participating minority youth and their families. The award will be made to CSU via a cooperative agreement which provides for substantial federal programmatic involvement in the project (see OMH Responsibilities listed in this announcement).

Project Requirements

CSU will develop a project plan which must include:

• A management team comprised of personnel with appropriate background and experience to develop, guide and execute the FCVP; and

• An operational plan for coordinating the FCVP and its component parts (Advisory Board, Family Life Centers and Management Team) to achieve the purpose of the Program.

CSU Responsibilities and Activities

At minimum, CSU must:

• Develop and implement a plan for maintaining regular communication with OMH and the Family Life Centers (FLCs).

• Develop and implement guidelines for FLC operations, notice of availability of funds for FLC establishment, and guidelines for competitive application preparation.

• Development and implement a plan for conducting a yearly evaluation of the activities of each of the funded institutions, as well as the overall project.

• Develop by-laws for the operation of the Advisory Board and submit to OMH for review and approval.

• In FY 2002, award $4,950,000 in continuation funds to the 23 undergraduate institutions currently funded under the FCVP Program to support established FLCs.

• In FY 2002, award $900,000 in new awards to three additional undergraduate institutions to support the establishment of model FLCs.

• In FY 2003, solicit proposals from four-year undergraduate institutions historically identified as providing education primarily to minority students, or having a majority enrollment of minority students, and from two-year Tribal Colleges which are members of the American Indian Higher Education Consortium, to establish FLCs in low income, at-risk minority communities, and to implement programs that employ a variety of approaches that address violent and abusive behavior that meet their unique needs.

• In FY 2003, provide funding to up to 24 selected undergraduate institutions at a level of up to $250,000 each (total awards of $5,300,000) to conduct comprehensive programs of support and education for a defined community. The selected undergraduate institutions must:

—Establish a FLC within a 10 mile radius of the target community to facilitate access to the program's services/activities on a regular basis (FLCs established on American Indian reservations are excepted). The FLC can be located at the undergraduate school site, or at a facility of a community institution/organization with which it has an established partnership. The FLC is to be open year round (at least 45 weeks), with activities/services offered at various times (e.g. weekdays, evenings, weekends) to accommodate the target group(s).

—Offer project activities in the areas of Academic Enrichment, Personal Development, Family Bonding, Cultural/Recreational Enrichment, and Career Development for at least 25 at-risk youth and their families.

—Offer opportunities for the target population to participate in activities on campus or at other appropriate sites. At a minimum activities must:

• Address primary and/or secondary prevention (see Definitions section of this announcement);

• Involve parents, guardians and/or adult caretakers of participating youth;

• Include faculty and/or staff from the institution in program delivery;

• Include students from the institution serving as mentors and in other areas of program delivery; and

• Include a summer academic enrichment program of at least 3 weeks.

—Develop at least 3 formal arrangements/partnerships, one of which must be with a primary or secondary school. Other partners would include community organizations and citizens that provide in-kind contributions and/or assist in the implementation of program activities.

—Evaluate activities conducted using forms required by the Management Team and, if desired, other forms/instruments that are compatible with the overall FCVP evaluation plan. The evaluation design must include use of a random assignment or matched comparison group.

—Submit semi-annual reports describing program activities conducted and progress toward meeting objectives. Reports must meet formatting and content requirements prescribed by the Management Team.

• In FY 2003 and FY 2004 make continuation awards at a level of up to $300,000 each (total awards of $900,000) to the three institutions selected in FY 2002. These continuation awards will be based on satisfactory progress in meeting program requirements.

• In FY 2004 and FY 2005 make continuation awards at a level of up to $250,000 each (total awards of $5,200,000) to the institutions (up to 24) selected in FY 2003.

• Monitor the activities of the funded undergraduate institutions to ensure compliance with the intent of the FCVP Program.

• Each year conduct three technical assistance workshops for participating FLCs in conjunction with three meetings of the Advisory Board.

Note: The technical assistance workshop and the Advisory Board meeting are to be held concurrently or on consecutive dates at the same site.

• Provide technical assistance to individual FLCs, as needed, throughout each year of the project.

• Plan and conduct a national conference of the FCVP program to take place during Year 03 of the project period.

• Submit recommendations or requests for changes in program strategies, scope, evaluation activities and adjustments in funding levels of participating institutions to OMH for review and approval.

• Develop a manual or tool kit which documents procedures and methods for implementing successful violence prevention programs for specific types of communities (i.e. rural, urban, Indian reservation).

OMH Responsibilities and Activities

At a minimum, substantial federal programmatic involvement will include the following.

• Provide technical assistance and oversight for the overall design and operation of the FCVP program.

• Review and approve all documents prepared by the Management Team for the solicitation of proposals, including FLC operational and application guidelines.

• Develop the evaluation criteria for the selection and funding of FLC applications.

• Manage the objective review and selection of FLC applications.

• Appoint an 11-member Advisory Board based on nominations from the Management Team, FLC staff and federal agencies.

• Identify OMH staff to serve on the Advisory Board in an ex-officio capacity.

• Review and approve Management Team recommendations or requests for changes in program strategies, scope, evaluation activities and adjustments in funding levels of participating institutions.

• Participate in the planning of and attend all of the Advisory Board meetings, Technical Assistance Workshops for FLC staff and the national conference.

• Participate in site visits to the participating institutions as deemed appropriate by OMH staff.

Application Kit

• For this cooperative agreement, CSU must submit a proposal using Form PHS 5161-1 (Revised July 2000 and approved by OMB under Control Number 0348-0043).

• CSU is advised to pay close attention to the specific program guidelines and general instructions provided in the application kit.

• The application kit will be sent to CSU by the Grants Management Officer, OMH.

Review of Application

The application submitted by CSU will be reviewed by OMH to ensure that all program requirements are met and that the proposed plan is in compliance with the intent of the FCVP Program. Once the proposal has been approved by OMH, CSU will be notified and the award will be made.

Reporting and Other Requirements

General Reporting Requirements: The successful applicant under this notice will submit: (1) Progress reports; (2) an annual Financial Status Report; and (3) a final progress report and Financial Status Report in the format established by the OMH, in accordance with provisions of the general regulations which apply under 45 CFR part 74.51-74.52.

Healthy People 2010: The PHS is committed to achieving the health promotion and disease prevention objectives of Healthy People 2010, a PHS-led national activity announced in January 2000 to eliminate health disparities and improve years and quality of life. More information may be found on the Healthy People 2010 web site: http//www.health.gov/People2010: Volumes I and II can be purchased (cost $70.00 for printed version; $19.00 for CD-ROM). Another reference is the Healthy People 2000 Review 1998-99.

For a free copy of Healthy People 2010, contact: The National Center for Health Statistics (NCHS), Division of Data Services, 6525 Belcrest Road, Hyattsville, MD 20782-2003; or telephone (301) 458-4636; as for DHHS Publications No. (PHS) 99-1256.

This document may also be downloaded from the NCHS web site http://www.cdc.gov/nchs.

Definitions

For purposes of this grant announcement, the following definitions are provided:

Hispanic Serving Institution (HSI)—Any local education agency or institution of higher education, respectively, whose student population is more than 25 percent Hispanic (Executive Order 12900, February 22, 1994, Education Excellence for Hispanic Americans, Section 5).

Historically Black College or University (HBCU)—An institution established prior to 1964, whose principal mission was, and is, the education of Black Americans. (National Center for Education Statistics. Compendium: Historically Black Colleges and Universities: 1976-1994. September 1996. [NCES 96-902]).

Majority Enrollment of Minority Students—Enrollment of minorities exceeding 50 percent of the total number of students enrolled (Federal Register, Vol. 53, No. 57, March 24, 1988).

Minority Populations—American Indian or Alaska Native, Asian, Black or African American, Hispanic or Latino, and Native Hawaiian or Other Pacific Islander. (Revision to the Standards for the Classification of Federal Data on Race and Ethnicity, Federal Register, Vol. 62, No. 210, pg. 58782, October 30, 1997.)

Primary Prevention—Strategies and interventions targeting a broad population with universal programs designed to prevent the initial development of violent behaviors (From the Commission for the Prevention of Youth Violence, December 2000).

Risk Factor—The environmental and behavioral influences capable of causing ill health with or without predisposition.

Secondary Prevention—Strategies and interventions designed to serve specific populations at risk for or involved in violence (From the Commission for the Prevention of Youth Violence, December 2000).

Tribal College or University (TCU)—One of the institutions cited in section 532 of the Equity in Education Land-Grants Status Act of 1994 (U.S.C. 301 note) or that qualify for funding under the Tribally Controlled Community College Assistance Act of 1978, (25 U.S.C. 1801 et seq), and Navajo Community College, authorized in the Navajo Community College Assistance Act of 1978, Public Law 95-471, Title II (25 U.S.C. 640a note).

Dated: March 1, 2002.
Nathan Stinson, Jr.,
Deputy Assistant Secretary for Minority Health.

[FR Doc. 02-5363 Filed 3-6-02; 8:45 am]

BILLING CODE 4150-29-P